INTERNATIONAL TRADE COMMISSION

[Investigation No. TA-201-72]

Extruded Rubber Thread

Determination

On the basis of the information in the investigation, the Commission determines, pursuant to section 202(b) of the Trade Act of 1974, that extruded rubber thread¹ is not being imported into the United States in such increased quantities as to be a substantial cause of serious injury or the threat of serious injury to the domestic industry producing an article like or directly competitive with the imported article.

¹ For purposes of this investigation, extruded rubber thread is defined as vulcanized rubber thread, obtained by extrusion of stable or concentrated natural rubber latex of any cross sectional shape, measuring from 0.18 mm (which is 0.007 inch or 140 gauge) to 1.42 mm (which is 0.056 inch or 18 gauge) in diameter. Such extruded rubber thread is classified in heading 4007.00 of the Harmonized Tariff Schedule of the United States (HTS). Although the HTS category is provided for convenience and Customs purposes, the written description of the merchandise is dispositive.

Background

Following receipt of a properly filed petition on June 5, 2000, by counsel on behalf of North American Rubber Thread, Fall River, MA, the Commission instituted investigation No. TA-201-72, Extruded Rubber Thread, under section 202 of the Trade Act of 1974 to determine whether extruded rubber thread is being imported into the United States in such increased quantities as to be a substantial cause of serious injury, or the threat thereof, to the domestic industry producing an article like or directly competitive with the imported article.

Notice of the institution of the Commission's investigation and of the scheduling of public hearings to be held in connection therewith was given by posting copies of the notice in the Office of the Secretary, U.S. International Trade Commission, Washington, DC, and by publishing the notice in the Federal Register of June 22, 2000 (65 FR 38856). The hearing in connection with the injury phase of the investigation was held on September 6, 2000, in Washington, DC; all persons who requested the opportunity were permitted to appear in person or by counsel.

The Commission transmitted its determination in this investigation to the President on December 4, 2000. The views of the Commission are contained in USITC Publication 3375, December 2000, entitled Extruded Rubber Thread (Inv. No. TA-201-72).

By order of the Commission.
Issued: December 12, 2000.
Donna R. Koehnke,
Secretary.

[FR Doc. 00-32252 Filed 12-18-00; 8:45 am]

BILLING CODE 7020-02-P